DEPARTMENT OF DEFENSE

Department of the Army, Corps of Engineers

Deauthorization of Water Resources Projects

AGENCY: Army Corps of Engineers, DoD.

ACTION: Notice of project deauthorizations; correction.

SUMMARY: The U.S. Army Corps of Engineers published a document in the Federal Register of July 2, 2009, listing water resources projects deauthorized on March 29, 2009. The document incorrectly included the Baltimore Harbor and Channels, MD & VA (50-ft Deepening) project.

FOR FURTHER INFORMATION CONTACT: Ms. Jitka Braden, 202-761-8816

Correction

In the Federal Register of July 2, 2009, in FR Doc. E9-15663, on page 31714, correct the list of “Projects Deauthorized on 29 March 2009 Under Section 1001(B)(2) WRDA 1986, as Amended”, by deleting the Baltimore Harbor and Channels, MD & VA (50-ft Deepening) project from this list. The Baltimore Harbor and Channels, MD & VA, 50-ft Deepening project remains authorized.

Dated: July 30, 2009.
Approved by:
Patricia Rivers,
Chief, Programs Integration Division, Directorate of Military Programs.

[FR Doc. E9-18738 Filed 8-5-09; 8:45 am]

BILLING CODE 3710-92-P